DEPARTMENT OF COMMERCE

National Oceanic and Atmospheric Administration

[I.D. 092401A]

New England Fishery Management Council; Public Meeting

AGENCY: National Marine Fisheries Service (NMFS), National Oceanic and Atmospheric Administration (NOAA), Commerce.

ACTION: Notice of public meeting.

SUMMARY: The New England Fishery Management Council (Council) is scheduling a public meeting of its Protected Species Committee in October, 2001. Recommendations from the committee will be brought to the full Council for formal consideration and action, if appropriate.

DATES: The meeting will be held on October 15, 2001, at 9:30 a.m.

ADDRESSES: The meeting will be held at the New England Fishery Management Council Office, 50 Water Street, Mill #2, Newburyport, MA 01950; telephone: (978) 465-0492.

FOR FURTHER INFORMATION CONTACT: Paul J. Howard, Executive Director, New England Fishery Management Council; (978) 465-0492.

SUPPLEMENTARY INFORMATION: The Protected Species Committee will review and comment on NMFS proposed rule scheduled for publication at the end of September, 2001 to implement the Reasonable and Prudent Alternatives described in the Biological Opinions for the Northeast Multispecies, Monkfish and Dogfish Fishery Management Plans. The committee will also prepare comments on the Draft Right Whale Recovery Plan as well as discuss and provide guidance concerning initiatives of the Take Reduction and Northeast Implementation Teams.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard (see ADDRESSES) at least 5 days prior to the meeting dates.

Dated: September 25, 2001.
Richard W. Surdi,
Acting Director, Office of Sustainable Fisheries, National Marine Fisheries Service.

[FR Doc. 01-24519 Filed 9-28-01; 8:45 am]

BILLING CODE 3510-22-S